DEPARTMENT OF COMMERCE

National Oceanic and Atmospheric Administration

[Docket No. 001206342-0342-01; I.D. 080200B]

RIN 0648-ZB00

NOAA Restoration Center; Request for National and Regional Habitat Restoration Partners

AGENCY: National Marine Fisheries Service (NOAA Fisheries), National Oceanic and Atmospheric Administration (NOAA), Commerce.

ACTION: Notice of request for partnership proposals.

SUMMARY: The purpose of this document is to invite the public to submit multi-year proposals for establishing innovative partnerships with the NOAA Restoration Center (RC) at a national or regional level to further habitat restoration that will benefit living marine resources including anadromous fish. NOAA envisions working jointly on such partnerships, through its Community-Based Restoration Program (CRP), to select, competitively fund, and administer projects with substantial community involvement that restore NOAA trust resource habitat.

This document describes the types of habitat restoration partnerships that the RC envisions establishing, and describes criteria under which applications will be evaluated for funding consideration. Partnerships selected through this notice will be implemented through a cooperative agreement mechanism and will involve joint selection and co-funding of multiple community-based habitat restoration projects. This is not a request for individual community-based habitat restoration project proposals.

DATES: This is an open notice for applications that runs through September 1, 2001. Applications will be evaluated and partners selected within 45 days after date of publication in the Federal Register and each month thereafter until the close of this solicitation. No facsimile or electronic mail applications will be accepted.

ADDRESSES: Send applications to James P. Burgess, Director, NOAA Restoration Center, National Marine Fisheries Service, 1315 East West Highway (F/HC3), Silver Spring, MD 20910-3282; ATTN: CRP Partnership Applications.

See SUPPLEMENTARY INFORMATION section under Electronic Access for additional information on the Program and for application form information.

FOR FURTHER INFORMATION CONTACT: Christopher D. Doley or Robin J. Bruckner, (301) 713-0174, or by e-mail at Chris.Doley@noaa.gov or Robin.Bruckner@noaa.gov.

SUPPLEMENTARY INFORMATION:

I. Program Description

The CRP, a financial and technical Federal assistance program, promotes strong partnerships at the national, regional and local levels to fund grass-roots, community-based activities that restore living marine resources and their habitats and promote stewardship and a conservation ethic for NOAA trust resources. NOAA trust resources are living marine resources that include commercial and recreational fishery resources (marine fish and shellfish and their habitats); anadromous species (fish, such as salmon and striped bass, that spawn in freshwater and then migrate to the sea); endangered and threatened marine species and their habitats; marine mammals, turtles, and their habitats; marshes, mangroves, seagrass beds, coral reefs, and other coastal habitats; and resources associated with National Marine Sanctuaries and National Estuarine Research Reserves. Priorities for habitat restoration partnership activities include: areas identified by NOAA Fisheries as essential fish habitat (EFH) and areas within EFH identified as Habitat Areas of Particular Concern; areas identified as critical habitat for federally or state listed marine and anadromous species; areas identified as important habitat for marine mammals and turtles; watersheds or such other areas under conservation management as special management areas under state coastal management programs; and other important commercial or recreational marine fish habitat, including degraded areas that historically were important habitat for living marine resources.

The CRP’s objective is to bring together citizen groups, public and nonprofit organizations, watershed groups, industry, corporations and businesses, youth conservation corps, students, landowners, and local government, state, and Federal agencies to implement habitat restoration projects to benefit NOAA trust resources. Partnerships developed at national, regional and local levels contribute funding, land, technical assistance, workforce support or other in-kind services to promote citizen participation in the improvement of locally-important living marine resources and develop local stewardship and monitoring activities to sustain and evaluate the success of the restoration.

The CRP recognizes the significant role that partnerships can play in making habitat restoration happen within communities, and acknowledges that habitat restoration is often best implemented through technical and monetary support provided at a community level. Community-based restoration projects supported by the CRP are successful because they have significant local backing, depend upon citizens’ hands-on involvement, and typically involve NOAA technical assistance or oversight. The role of NOAA in the CRP is to help identify potential restoration projects, strengthen the development and implementation of sound restoration projects within communities, and develop long-term, ongoing national and regional partnerships to support community-based restoration efforts of living marine resource habitats across a wide geographic area. For more information on the CRP, see Electronic Access.

II. Restoration Partnership Priorities

NOAA is interested in developing national and regional partnerships that will lead to the accomplishment of on-the-ground, community-based restoration of marine, coastal and freshwater habitats to benefit living marine resources, including anadromous fish species. The primary goals of NOAA in establishing these partnerships are to restore living marine resource habitats; to involve community member volunteers in restoration activities to increase public awareness of the ecological value of fisheries habitat and foster a sense of community stewardship and pride for local restoration efforts; to develop and maintain long-term, ongoing, working relationships of mutual benefit by partnering on activities where the priorities and goals of partners overlap; to combine resources with national and regional partners to increase the geographic scope and rate at which habitat restoration can be conducted; and to collaborate on project identification, development, and selection for funding with partners that are able to coordinate and manage most or all aspects of restoration activities.

The RC envisions four primary means of working collaboratively to implement fisheries habitat restoration through partnerships: (1) Through sharing of restoration priorities, project ideas and techniques among interested organizations; (2) through the investment of technical assistance and oversight on particular restoration projects of mutual interest; (3) through collaborative identification of quality habitat restoration projects, and independent investment of technical assistance and cash and in-kind project contributions; and (4) through cooperative agreements, where potential national and regional partners apply for funds to work with the RC on a multi-year basis to identify, develop, implement and monitor community-based habitat restoration projects to benefit NOAA trust resources. Establishing partnerships through a cooperative agreement mechanism will involve joint selection and co-funding of numerous community-based habitat restoration projects, and is the primary focus of this Federal Register document.

III. National and Regional Restoration Partnerships

NOAA invites the submission of multi-year proposals of up to 3 years for establishing innovative partnerships with the RC at a national or regional level to further coastal habitat restoration. Successful applicants will be those whose partnership proposals are broad-reaching and demonstrate the potential for significant benefits to living marine resources across a large geographic area, and those whose restoration projects will actively engage community participation. Applicants seeking to establish partnerships must demonstrate that restoration activities will be consistent with NOAA Fisheries priorities outlined in this notice.

Proposals for both national and regional partnerships are encouraged. However, because regional partnerships are more focused in geographic scope, these applicants will be expected to demonstrate coordinated efforts among multiple groups such as universities, science centers, state and municipal agencies, watershed groups, local schools, civic groups and non-governmental organizations. Applications for regional partnerships should involve a coalition that will develop joint goals and objectives to accomplish habitat restoration, and whose activities are expected to take place across a substantial and defined geographic region, such as the Chesapeake Bay watershed or the states that border the Gulf of Maine, for example.

The CRP has worked with a variety of partners on community-based fishery habitat restoration. Successful partnerships resulted where joint goals and priorities were most effectively accomplished through collaborative activities, including the pooling of financial and technical resources. The following narrative highlights the qualitites the CRP expects in working with national and regional community-based restoration partners. The example is only illustrative and is not intended to limit the scope of partnership proposals.

The CRP seeks partnerships to match NOAA cash contributions at a minimum of a 1:1 level, enabling a greater number of jointly evaluated and selected community-based habitat restoration projects to be implemented. The combined partnership investments are to be subsequently leveraged between 1 and 5 times once cash and in-kind contributions from local partners and volunteers are included. Ideally, NOAA’s contribution under a partnership is used to co-fund competitive habitat restoration projects that benefit a wide range of NOAA trust resources over a substantial geographic area. NOAA and its partner will jointly solicit for local, citizen-driven habitat restoration proposals, and identify, evaluate and prioritize individual projects for funding. Partners will be expected to play a primary role in project development, the competitive solicitation of proposals, the coordination of joint reviews and evaluations of proposals, the award and administration of sub-grants, and the direct administrative oversight and routine review of funded projects. Partners will be expected to ensure that all work on individual projects will meet Federal, state and local environmental permitting requirements and that projects will be monitored to evaluate their success. Partners also will be expected to conduct all financial, administrative and contractual aspects of subsequent awards, consistent with all applicable Federal regulations and U.S. Department of Commerce/NOAA procedures and policies. NOAA’s role in most partnerships would be to provide technical assistance in project development, conduct requisite field visits, assist in the review and evaluation of proposals, and provide funding and technical guidance during project implementation and monitoring of project success.

Projects funded under the partnership will be expected to have strong on-the-ground habitat restoration components that provide educational and social benefits for people and their communities in addition to long-term ecological habitat improvements for NOAA trust resources. NOAA recognizes that accomplishing restoration is a multi-faceted effort involving project design, engineering services, permitting, construction, oversight and monitoring. Therefore, to allow maximum flexibility under a partnership, applicants should avoid unduly restricting proposed activities to specific restoration phases.

Restoration is defined here as activities that contribute to the return of degraded or altered marine, estuarine, coastal and freshwater anadromous fish habitats to a close approximation of their condition prior to disturbance. Restoration may include, but is not limited to, improvement of coastal wetland tidal exchange or reestablishment of historic hydrology; dam or berm removal; improvement or reestablishment of fish passageway; natural or artificial reef/substrate/habitat creation; establishment of riparian buffer zones and improvement of freshwater habitat features that support anadromous fishes; planting of native coastal wetland and submerged aquatic vegetation; and enhancement of feeding, spawning and growth areas essential to marine or anadromous fish.

A partnership application may target the restoration of specific habitats, or restrict work to certain geographic locations or the use of certain restoration techniques, if the restoration of these habitats or work in designated locations or with particular techniques has been documented under a regional planning effort to be a priority that is also consistent with the priorities of NOAA Fisheries. An example of suitable documentation includes proposed restoration activities resulting from a regional planning or other process where multiple stakeholders have reached consensus. Proposals for partnerships with a narrow restoration focus that will benefit limited resources or few user groups, or that request funding solely to support or increase general organizational activities, are not considered ideal for the partnership development goals of the NOAA Restoration Center, and will be less likely to be selected for partnership agreements with the RC.

IV. Authority

The Secretary of Commerce is authorized under the Fish and Wildlife Coordination Act, 16 U.S.C. 661-666, to provide grants or cooperative agreements for fisheries habitat restoration.

V. Catalogue of Federal Domestic Assistance

This Program is described in the “Catalogue of Federal Domestic Assistance,” under program number 11.463, Habitat Conservation.

VI. Eligible Applicants

Eligible applicants are institutions of higher education, hospitals, other non-profits, commercial organizations, organizations under the jurisdiction of foreign governments, international organizations, state, local and Indian tribal governments, and Federal agencies. Although Federal agencies are eligible to apply, they are strongly encouraged to work with states, non-governmental organizations, national service clubs or youth corps organizations and others that are eligible to apply as potential NOAA habitat restoration partners, rather than seeking partnerships directly with NOAA. Proposals selected for funding from non-Federal applicants will be funded through a project grant or cooperative agreement under the terms of this document. Proposals selected for funding from a non-NOAA Federal agency will be funded through an interagency transfer. Note: Before non-NOAA Federal applicants may be funded, they must demonstrate that they have legal authority to receive funds for the purpose of this program in excess of their appropriation. Because this announcement is not proposing to procure goods or services from applicants, the Economy Act (31 U.S.C. 1535) is not an appropriate legal basis.

Pursuant to Executive Orders 12876, 12900, and 13021, the Department of Commerce National Oceanic and Atmospheric Administration (DOC/NOAA) is strongly committed to broadening the participation of Historically Black Colleges and Universities, Hispanic Serving Institutions, and Tribal Colleges and Universities in its educational and research programs. The DOC/NOAA vision, mission, and goals are to achieve full participation by Minority Serving Institutions (MSI) in order to advance the development of human potential, to strengthen the nation’s capacity to provide high-quality education, and to increase opportunities for MSIs to participate in, and benefit from, Federal financial assistance programs. DOC/NOAA encourages proposals for innovative national and regional partnerships involving MSIs according to the criteria in this document, to strengthen the capacity of MSIs to foster student careers, research and workforce competitiveness in fisheries habitat restoration through identification, development, implementation and monitoring of on-the-ground community-based restoration projects on a national or regional scale.

VII. Anticipated Funding Levels for Partnership Activities

This solicitation invites multi-year partnerships of up to 3 years with the NOAA Restoration Center, in the form of cooperative agreements of up to $4,000,000 (combined NOAA and partner funds, maximum Federal funds $2 M) for the formation of national habitat restoration partnerships, and up to $2,000,000 (combined NOAA and partner funds, maximum Federal funds $1 M) for the formation of regional partnerships beginning in FY 2001, with allowances for higher amounts if the applicants can produce a match in excess of 1:1. Combined funds for partnerships may be scaled up from FY 2001 levels to $6,000,000 (national) and $3,000,000 (regional) in FY 2002, and to $8,000,000 (national) and $4,000,000 (regional) in FY 2003 with future budget increases. In accordance with NOAA Community-Based Restoration Program Guidelines (65 FR 16890, March 30, 2000), the Restoration Center Director will determine the proportion of funds available to the CRP on an annual basis that will be obligated to national and regional partnerships each year, including the proportion to be used for interagency partnerships, and the proportion to be used for direct solicitations through the CRP. The number of partnership awards to be made as a result of this solicitation will depend on the number of eligible applications received, the amount of funds requested for initiating partnerships by the applicants, the merit and rating of the proposals, and the amount of funds made available to the CRP by Congress. There is no guarantee that sufficient funds will be available to initiate partnerships where funding has been approved, and the mix of national and regional partnerships will be up to the discretion of the RC director. National partnerships generally will have preference over regional partnerships if available funds are limited. The exact amount of funds that may be awarded to work within a habitat restoration partnership will be determined in pre-award negotiations between the applicant and NOAA representatives. Publication of this document does not obligate NOAA to establish any specific partnership proposed or to obligate all or any parts of the available funds for partnership activities.

For partnerships where funding is approved, funds awarded cannot necessarily pay for all the costs that the recipient might incur in the course of carrying out the partnership role.

Allowable costs are determined by reference to the Office of Management and Budget (OMB) Circulars A-122, “Cost Principles for Non-profit Organizations”; A-21, “Cost Principles for Education Institutions”; and A-87, “Cost Principles for State, Local and Indian Tribal Governments.” Generally, costs that are allowable include salaries, equipment, supplies, and training, as long as these are “necessary and reasonable.” However, in order to encourage on-the-ground restoration, if funding for salaries is requested, it must be used to support staff directly involved in overseeing the accomplishment of the restoration work that will take place under the partnership.

VIII. Matching Requirements

The overall focus of the CRP is to provide seed money to individual projects that leverage funds and other contributions from a broad public and private sector to implement locally important habitat restoration to benefit living marine resources. To this end, applicants seeking national and regional partnerships with the RC are expected to demonstrate a minimum 1:1 non-Federal match. While this is not a requirement, NOAA strongly encourages applicants to leverage as much investment as possible; applicants with less than 1:1 match will not be disqualified. The degree to which cost-sharing exceeds the minimum level, and the source (national/regional versus project-by-project) and nature (cash versus in-kind) of the contribution will be taken into account in the selection of partnerships to be awarded (see Evaluation Criteria section). The match can come from a variety of public and private sources and can include in-kind goods and services. Federal funds may not be considered matching funds. Applicants are permitted to combine contributions from additional non-Federal partners in order to meet the 1:1 match expected to establish a partnership. Applicants whose proposals are selected for habitat restoration partnership funding will be bound by the percentage of cost sharing reflected in the award document signed by the NOAA Grants Officer.

IX. Type of Funding Instrument

For habitat restoration partnerships selected to receive funding through this solicitation, the RC envisions providing funds through cooperative agreements. A cooperative agreement is a legal instrument reflecting a relationship between NOAA and a recipient whenever (1) the principal purpose of the relationship is to provide financial assistance to the recipient and (2) substantial involvement in the project by NOAA is anticipated during performance of the contemplated activity. NOAA may play a substantial role in any or all of the following: (1) Developing national and regional partnerships to promote locally driven habitat restoration activities; (2) conducting cooperative activities with recipients in project identification and ranking; (3) evaluating the performance of restoration projects; and (4) supporting project partners to enhance their effectiveness in meeting stated restoration goals for improving fisheries habitat.

X. Award Period and Partnership Duration

Proposals for national and regional partnerships should cover a project period between 1 and 3 years. Multi-year project period requests may be funded incrementally on an annual basis, but once awarded, multi-year partnerships will not need to compete for funding in subsequent years. If an application is selected and approved for funding under a partnership, NOAA has no obligation to provide additional funding in connection with this partnership in subsequent years. However, the intention of the Program is to attract and maintain partnerships that will be ongoing and long-lasting. Established partnerships are expected to continue through the duration of the project period. Future opportunities for submitting proposals to the competitive process for developing multi-year, national and regional habitat restoration partnerships are anticipated, but will be dependent on CRP funding levels and on the performance of existing partners to successfully maintain existing partnership activities to identify, develop, evaluate, implement and monitor community-based fisheries habitat restoration projects. Future opportunities to submit competitive applications for establishing national and regional habitat restoration partnerships will not affect existing partnerships provided that all parties involved are satisfied with the performance of the partnership arrangements. Renewal of an award to continue individual partnership arrangements in subsequent years, or to extend the period of performance, is at the total discretion of the Restoration Center Director.

XI. Electronic Access

Information on the Program, including examples of national partnerships and community-based habitat restoration projects that have been funded to date, can be found on the world wide web at http://www.nmfs.noaa.gov/habitat/restoration. Application forms and instructions for applicants that wish to respond to this solicitation are also available through this web site, or they can be obtained from the NOAA Restoration Center (see ADDRESSES).

XII. Application Process

A NOAA grants application must be filed under the guidelines in this document. Proposal applications must be complete and in accordance with instructions in the standard NOAA Grants Application Package. Each application must include all specified sections as follows: cover sheet (an applicant must use OMB Standard Form 424 as the cover sheet for each project); budget detail (SF 424A and budget justification narrative); grant assurances SF424B and CD-511, and SF-LLL if applicable; and narrative project description (statement of work). Budgets must include a detailed breakdown by category of cost estimates as they relate to specific aspects of the partnership, with appropriate justification for both the Federal and non-Federal shares.

The narrative project description should be no more than 15 double-spaced pages long, in 12 point font, and should give a clear presentation of the proposed partnership. It should identify the problems the partnership will address and the geographic area over which the partnership will operate. The narrative should describe short- and long-term objectives and goals, methods for identifying potential projects, the criteria that will be used for selecting restoration proposals and determining the success of projects implemented at a community level under the partnership, and the relevance of the proposed partnership to enhancing habitat to benefit living marine resources. The narrative also should address a mechanism that partners will use to ensure that all necessary environmental permits and consultations will be secured prior to the use of Federal funds for construction. Additionally, the narrative should identify the anticipated partnership duration, amount and timing of funds requested, potential sources of match, and any restrictions the partner may impose on the further use of Federal funds. For example, if the partner anticipates limiting competition by restricting the level of funding per project, restricting funding to specific project phases, cost categories or to specific recipients, restricting habitat types, organization types or geographic locations from consideration, these restrictions should be clearly detailed in the narrative. It is NOAA’s intention to maintain maximum competition and flexibility in the use of Federal restoration funds.

Anticipated project partners other than the applicant should be identified; this is particularly important for those applying to establish regional partnerships. The project narrative should describe the organizational structure of the applicant group(s), detail their qualifications and identify proposed partnership staff. In general, applications should clearly demonstrate the broad-based benefits expected to habitats, and how these benefits will be achieved through partnership activities with the RC. Partnerships that emphasize a singular restoration component, such as only outreach, monitoring, or program coordination are discouraged, as are applications that propose partnerships to expand an organization’s day-to-day activities that have limited NOAA involvement, or primarily support administration, salaries, overhead and travel.

Applications should not be bound or stapled and should be printed on one side only. Incomplete applications will be returned to the applicant. Three copies (one signed original and two signed copies) of each application are required and must be submitted to the NOAA Restoration Center (see ADDRESSES).

XIII. Indirect Costs

The budget may include an amount for indirect costs if the applicant has an established indirect cost rate with the Federal government. The total dollar amount of indirect costs proposed in an application under this program must not exceed the indirect cost rate negotiated and approved by a cognizant Federal agency prior to the proposed effective date of the award. However, the Federal share of the indirect costs may not exceed 25 percent of the proposed request for Federal support. Applicants with indirect cost rates above 25 percent may use the amount above the 25-percent level as part of the non-Federal share. A copy of the approved, currently negotiated Indirect Cost Agreement with the Federal Government must be included in the application. If the applicant does not have a current negotiated rate and plans to seek reimbursement for indirect costs, documentation necessary to establish a rate must be submitted within 90 days of receiving an award.

XIV. Partnership Selection Process

Applications will be screened to determine if proposals are complete and in accordance with instructions detailed in the standard NOAA Grants Application Package. Eligible restoration partnership proposals will undergo a technical review, rating, and selection process. Proposals will be reviewed by NOAA field and headquarters staff to determine how well applications meet the stated aims of the CRP, and how well the proposal meets the goals of the NOAA RC for establishing partnerships, using the evaluation criteria that follow. Reviewers will make recommendations to the NOAA Restoration Center Director regarding which proposals are suitable for further consideration. As appropriate during this process, the NOAA Restoration Center will solicit individual technical evaluations of each proposed partnership and may consult with other NOAA offices, the NOAA Grants Management Division, the U.S. Department of Commerce, the Regional Fishery Management Councils, other Federal and state agencies, such as state coastal management agencies and state fish and wildlife agencies, and private and public sector restoration experts who have knowledge of a specific applicant, program or its subject matter.

Applications for proposed partnerships will be evaluated by individual technical reviewers according to the criteria and weights described in this solicitation. The proposals will be rated, and reviewer’s comments will be presented to the Director of the NOAA Restoration Center. The Director, in consultation with Program staff, may take into account the following program priorities: (a) Diversity of geographic location and habitat types to be restored; (b) diversity of applicants; (c) degree of duplication of proposed partnership activities with other partnerships that are currently in effect or approved for funding by NOAA and other Federal agencies; (d) factors that may not be known by technical reviewers that would affect achievement of the CRP’s objectives as described in this announcement and the Program Guidelines (65 FR 16890, March 30, 2000); and (e) the availability of funds. Partnership offers may not be extended to all applicants that score well. The Director, in consultation with Program staff, will select the partnerships to be established with the NOAA Restoration Center and determine the amount of funds available for each approved partnership.

Applicants may be asked to modify objectives, work plans, or budgets prior to final approval of an award. The exact amount of funds to be awarded, the final scope of activities, the partnership duration, and specific NOAA cooperative involvement with the activities proposed under selected partnerships will be determined in pre-award negotiations among the applicant, the NOAA Grants Office, and the NOAA Program staff. Partnership activities should not be initiated in expectation of Federal funding until a notice of award document is received from the NOAA Grants Office.

Successful applicants will be selected to establish habitat restoration partnerships with the RC beginning March 26, 2001, and each month thereafter until the close of this solicitation. Notification of approved partnership status will take place approximately 60 days after the cooperative agreement application is forwarded to the NOAA Grants Management Division, when all NOAA/applicant negotiations of cooperative activities have been completed. Applicants should consider this selection and processing time in developing requested start dates for proposed partnership activities.

XV. Evaluation Criteria

Reviewers will assign scores to proposals ranging from 0 (unacceptable) to 100 (excellent) points based on the following five evaluation criteria and respective weights:

(1) Potential of the Partnership to Benefit Living Marine Resources (20 percent)

Proposals will be evaluated on (a) the national or regional extent of proposed habitat restoration activities and (b) the types of habitats that will be restored under the partnership. In particular, NOAA will evaluate proposals based on the potential of the applicant and proposed magnitude of the partnership to restore, protect, conserve, and enhance habitats and ecosystems vital to self-sustaining populations of living marine resources under NOAA Fisheries stewardship.

(2) Partner Strengths and Experience (20 percent)

The applicant should demonstrate its abilities to effectively and efficiently manage a significant number of projects simultaneously. Applicants will be evaluated on the qualifications, past experience, and potential of the project partners to effectively identify, develop, select, manage and oversee all project phases, particularly financial and administrative management of sub-awards, and the ability to ensure scientifically-based monitoring is implemented on individual projects funded through sub-awards.

(3) Adequacy of Partnership Plan (20 percent)

The partnership plan will be evaluated on: (a) the adequacy of proposed strategies for coordination with NOAA in all phases of project selection, design, implementation and monitoring; (b) the degree to which the selection process is competitive, and ensures that sub-awards are made according to technical evaluations and identified weighting factors consistent with NOAA priorities; (c) the ability of the partner to foster restoration activities under the partnership that will be consistent with regional or community planning processes, or other stakeholder mechanisms used to prioritize projects; (d) the degree to which projects selected for sub-awards are expected to have long-lasting results that will be sustained into the future through conservation easements or similar protection; (e) the ability to advance the partnership and increase awareness of the importance of habitat restoration; and (f) the ability to provide assurance that projects implemented through sub-awards will meet all Federal and state environmental laws and obtain applicable permits and consultations.

(4) Ability to Engage Communities in Habitat Restoration (20 percent)

Proposals will be evaluated on the suitability of proposed actions to involve citizens and broaden their participation in habitat restoration projects. Proposals must include information on how the selection of projects under the partnership with NOAA will promote significant community involvement in fisheries habitat restoration and stewardship. Community participation may include: (a) hands-on training and restoration activities undertaken by volunteers; (b) sponsorship from local entities, either through in-kind goods and services (earth moving, technical expertise, conservation easements) or cash contributions; (c) public education and outreach; (d) support from state and local governments; and (e) ability to achieve long-term stewardship for restored resources and to generate a community conservation ethic.

(5) Cost-effectiveness and Budget Justification (20 percent)

Proposals will be evaluated on: (a) the percentage of funds that will be dedicated to all phases of restoration project implementation including physical, on-the-ground restoration compared to the percentage that is for administration and overhead to be used by the partner; (b) the overall leverage of NOAA funds anticipated, including the amount of cash match; (c) the ability to which the partnership and projects selected are likely to catalyze future restoration and protection of living marine resources; and (d) the ability of the applicant organization to demonstrate that a significant benefit will be generated for a reasonable cost. NOAA will expect cost-sharing to leverage funding and to further encourage partnerships among government, industry, and academia.

XVI. Other Requirements

Federal Policies and Procedures

Recipients and subrecipients are subject to all Federal laws and Federal and DOC policies, regulations, and procedures application to Federal financial assistance awards.

Past Performance

Any first-time applicant for Federal grant funds under this announcement is subject to a pre-award accounting survey prior to execution of the award. Unsatisfactory performance under prior Federal awards may result in an application not being considered for funding.

Pre-award Activities

If applicants incur any costs prior to an award being made, they do so solely at their own risk of not being reimbursed by the Government. Notwithstanding any verbal or written assurance that they may have received, there is no obligation on the part of NOAA to cover pre-award costs.

No Obligation of Future Funding

If an application is selected for funding, NOAA has no obligation to provide additional future funding in connection with the award. Renewal of an award to increase funding or extend the period of performance is at the total discretion of the Restoration Center Director.

Delinquent Federal Debts

No award of Federal funds shall be made to an applicant or to its subrecipients who have any outstanding delinquent Federal debt or fine until:

1. The delinquent account is paid in full;

2. A negotiated repayment schedule is established, and at least one payment is received; or

3. Other arrangements are made that are satisfactory to the Department of Commerce.

Name Check Review

All non-profit and for-profit applicants are subject to a name check review process. Name checks are intended to reveal whether key individuals associated with the applying organization have been convicted of, or are presently facing, criminal charges such as fraud, theft, perjury, or other matters that significantly reflect on the applicant’s management, honesty, or financial integrity. Potential non-profit and for-profit recipients may also be subject to reviews of Dun and Bradstreet data or other similar credit checks.

Primary Applicant Certifications

All primary applicants must submit a completed Form CD 511, “Certifications Regarding Debarment, Suspension and Other Responsibility Matters; Drug-Free Workplace Requirements and Lobbying.” The following explanations are hereby provided:

1. Nonprocurement debarment and suspension. Prospective participants (as defined at 15 CFR 26.105) are subject to 15 CFR part 26, “Nonprocurement Debarment and Suspension,” and the related section of the certification form prescribed earlier applies;

2. Drug-free workplace. Grantees (as defined at 15 CFR 26.605) are subject to 15 CFR 26, subpart F, “Government-wide Requirements for Drug-Free Workplace (Grants),” and the related section of the certification form prescribed earlier applies; also please enter the Principal Place of Performance, that is, where the work will be done.

3. Anti-Lobbying. Persons (as defined at 15 CFR 28.105) are subject to the lobbying provision of 31 U.S.C. 1352, “Limitation on use of appropriated funds to influence certain Federal contracting and financial transactions,” and the lobbying section of the certification form prescribed above applies to applications/bids for grants, cooperative agreements, contracts for more than $100,000, and loans and loan guarantees for more than $150,000.

4. Anti-Lobbying disclosures. Any applicant who has paid or will pay for lobbying using any funds must submit a Form SF-LLL, “Disclosure Form to Report Lobbying,” as required under 15 CFR part 28, appendix B.

Lower Tier Certifications

Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure Form SF-LLL “Disclosure of Lobbying Activities.” Form CD-512 is intended for the use of recipients and should not be transmitted to DOC. An SF-LLL submitted by any tier recipient or subrecipient should be submitted to DOC in accordance with the instructions contained in the award document.

False Statements

A false statement on the application is grounds for denial or termination of funds and grounds for possible punishment by a fine or imprisonment as provided in 18 U.S.C. 1001.

Intergovernmental Review

Applications under this program are subject to the provisions of Executive Order 12372, “Intergovernmental Review of Federal Programs.”

American-made Equipment and Products

Applicants are hereby notified that they are encouraged, to the extent feasible, to purchase American-made equipment and products with funding provided under this program.

Classification

Prior notice and an opportunity for public comments are not required by the Administrative Procedure Act or by any other law for this notice concerning grants, benefits, and contracts. Furthermore, a regulatory flexibility analysis is not required for the purposes of the Regulatory Flexibility Act.

This action has been determined to be “not significant” for purposes of Executive Order 12866.

Notwithstanding any other provision of the law, no person is required to respond to, nor shall any person be subject to a penalty for failure to comply with, a collection of information subject to the requirements of the Paperwork Reduction Act unless that collection displays a currently valid OMB control number.

This notice contains collection-of-information requirements subject to the Paperwork Reduction Act. The use of Standard Forms 424, 424A, 424B and SF-LLL have been approved by OMB under the respective control numbers 0348-0043, 0348-0044, 0348-0040, and 0348-0046.

Dated: February 5, 2001.
William T. Hogarth,
Acting Assistant Administrator for Fisheries, National Marine Fisheries Service.

[FR Doc. 01-3390 Filed 2-8-01; 8:45 am]

BILLING CODE 3510-22-S